DEPARTMENT OF COMMERCE

National Oceanic and Atmospheric Administration

[RTID 0648-XD049]

New England Fishery Management Council; Public Meeting

AGENCY: National Marine Fisheries Service (NMFS), National Oceanic and Atmospheric Administration (NOAA), Commerce.

ACTION: Notice of public meeting.

SUMMARY: The New England Fishery Management Council (Council) is scheduling a public meeting of its Groundfish Advisory Panel via webinar to consider actions affecting New England fisheries in the exclusive economic zone (EEZ). Recommendations from this group will be brought to the full Council for formal consideration and action, if appropriate.

DATES: This webinar will be held on Tuesday, June 20, 2023, at 1 p.m.

ADDRESSES: Webinar registration URL information: https://attendee.gotowebinar.com/register/2073639778606826075.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Groundfish Advisory Panel will receive a report from the Groundfish Plan Development Team (PDT) covering these agenda topics. The Advisory Panel will discuss. Framework Adjustment 66/Specifications and Management Measures (to be initiated)—this action may include 2024-26 specifications for redfish, Northern windowpane flounder, and Southern windowpane flounder, 2024-25 specifications for white hake and U.S./Canada resources of Eastern Georges Bank cod, Eastern GB haddock, and GB yellowtail flounder, a revised white hake rebuilding plan, and Atlantic halibut management. They will also discuss a Framework Adjustment on Acceptable Biological Catches (ABC) Control Rules (to be initiated)—updates to the work plan, feedback from the Scientific and Statistical Committee, and facilitated meeting planning. The panel will talk about an Atlantic Cod Transition Plan—updates to the work plan, the general criteria for defining management units, and the latest cod spawning research. Also on the agenda is Gulf of Maine Haddock—a potential change in 2023 Council priorities to revise Gulf of Maine haddock specifications for 2024 and 2025 in Framework Adjustment 66. The panel will make recommendations to the Groundfish Committee, as appropriate. Other business may be discussed as necessary.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: May 26, 2023.
Rey Israel Marquez,
Acting Deputy Director, Office of Sustainable Fisheries, National Marine Fisheries Service.

[FR Doc. 2023-11729 Filed 6-1-23; 8:45 am]

BILLING CODE 3510-22-P